DEPARTMENT OF ENERGY

Federal Energy Regulatory Commission

Combined Notice of Filings

Take notice that the Commission has received the following Natural Gas Pipeline Rate and Refund Report filings:

Filings Instituting Proceedings

Docket Numbers: RP22-797-000.

Applicants: El Paso Natural Gas Company, L.L.C.

Description: § 4(d) Rate Filing: Negotiated Rate Agreement Update (Conoco Apr 4, 2022) to be effective 4/4/2022.

Filed Date: 4/1/22.

Accession Number: 20220401-5113.

Comment Date: 5 p.m. ET 4/13/22.

Docket Numbers: RP22-798-000.

Applicants: Transcontinental Gas Pipe Line Company, LLC.

Description: § 4(d) Rate Filing: Negotiated Rates—Cherokee AGL—Replacement Shippers—Apr 2022 to be effective 4/1/2022.

Filed Date: 4/1/22.

Accession Number: 20220401-5133.

Comment Date: 5 p.m. ET 4/13/22.

Docket Numbers: RP22-800-000.

Applicants: Columbia Gas Transmission, LLC.

Description: § 4(d) Rate Filing: Colonial 262963 and Vitol 262964—NR Agmts to be effective 4/1/2022.

Filed Date: 4/1/22.

Accession Number: 20220401-5183.

Comment Date: 5 p.m. ET 4/13/22.

Docket Numbers: RP22-801-000.

Applicants: El Paso Natural Gas Company, L.L.C.

Description: § 4(d) Rate Filing: Negotiated Rate Agreement Update (Hartree) to be effective 4/1/2022.

Filed Date: 4/1/22.

Accession Number: 20220401-5185.

Comment Date: 5 p.m. ET 4/13/22.

Docket Numbers: RP22-802-000.

Applicants: Nautilus Pipeline Company, L.L.C.

Description: § 4(d) Rate Filing: Negotiated Rates—Various Customers eff 4-1-22 to be effective 4/1/2022.

Filed Date: 4/1/22.

Accession Number: 20220401-5229.

Comment Date: 5 p.m. ET 4/13/22.

Docket Numbers: RP22-803-000.

Applicants: ANR Pipeline Company.

Description: § 4(d) Rate Filing: ANR—Freepoint Commodities 137467 Negotiated Rate Agreement to be effective 4/1/2022.

Filed Date: 4/1/22.

Accession Number: 20220401-5231.

Comment Date: 5 p.m. ET 4/13/22.

Docket Numbers: RP22-804-000.

Applicants: High Point Gas Transmission, LLC.

Description: Compliance filing: High Point Gas Transmission Annual LAUF Filing to be effective N/A.

Filed Date: 4/1/22.

Accession Number: 20220401-5273.

Comment Date: 5 p.m. ET 4/13/22.

Docket Numbers: RP22-805-000.

Applicants: El Paso Natural Gas Company, L.L.C.

Description: § 4(d) Rate Filing: Negotiated Rate Agreement Update (SoCal Apr 2022) to be effective 4/4/2022.

Filed Date: 4/1/22.

Accession Number: 20220401-5308.

Comment Date: 5 p.m. ET 4/13/22.

Docket Numbers: RP22-806-000.

Applicants: Columbia Gas Transmission, LLC.

Description: § 4(d) Rate Filing: SWN FTS 244599 Rev. 1 Amendment to be effective 4/1/2022.

Filed Date: 4/1/22.

Accession Number: 20220401-5384.

Comment Date: 5 p.m. ET 4/13/22.

Docket Numbers: RP22-807-000.

Applicants: Ozark Gas Transmission, L.L.C.

Description: Compliance filing: Ozark Gas Actual Fuel Use Filing to be effective N/A.

Filed Date: 4/1/22.

Accession Number: 20220401-5391.

Comment Date: 5 p.m. ET 4/13/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2022.
Debbie-Anne A. Reese,
Deputy Secretary.

[FR Doc. 2022-07566 Filed 4-7-22; 8:45 am]

BILLING CODE 6717-01-P